SECURITIES AND EXCHANGE COMMISSION

[Release Nos. 33-10670; 34-86628; File No. 265-28]

Investor Advisory Committee Meeting

AGENCY: Securities and Exchange Commission.

ACTION: Notice of telephonic meeting of Securities and Exchange Commission Dodd-Frank Investor Advisory Committee.

SUMMARY: The Securities and Exchange Commission Investor Advisory Committee, established pursuant to Section 911 of the Dodd-Frank Wall Street Reform and Consumer Protection Act of 2010, is providing notice that it will hold a telephonic public meeting. The public is invited to submit written statements to the Committee.

DATES: The meeting will be held on Thursday, September 5, 2019 from 11:00 a.m. until 12:30 p.m. (ET) and will be open to the public via telephone at 1-800-260-0719 in the United States or (651) 291-1170 outside the United States, participant code 470756. Written statements should be received on or before September 5, 2019.

ADDRESSES: Written statements may be submitted by any of the following methods:

Electronic Statements

• Use the Commission's internet submission form (http://www.sec.gov/rules/other.shtml); or

• Send an email message to rules-comments@sec.gov. Please include File No. 265-28 on the subject line; or

Paper Statements

• Send paper statements to Vanessa A. Countryman, Secretary, Securities and Exchange Commission, 100 F Street NE, Washington, DC 20549-1090.

All submissions should refer to File No. 265-28. This file number should be included on the subject line if email is used. To help us process and review your statement more efficiently, please use only one method.

Statements also will be available for website viewing and printing in the Commission's Public Reference Room, 100 F Street NE, Room 1503, Washington, DC 20549, on official business days between the hours of 10:00 a.m. and 3:00 p.m. All statements received will be posted without change. Persons submitting comments are cautioned that we do not redact or edit personal identifying information from comment submissions. You should submit only information that you wish to make available publicly.

FOR FURTHER INFORMATION CONTACT: Marc Oorloff Sharma, Chief Counsel, Office of the Investor Advocate, at (202) 551-3302, Securities and Exchange Commission, 100 F Street NE, Washington, DC 20549.

SUPPLEMENTARY INFORMATION: The meeting will be open to the public via telephone. Persons needing special accommodations to take part because of a disability should notify the contact person listed in the section above entitled FOR FURTHER INFORMATION CONTACT.

The agenda for the meeting includes: Welcome remarks; a discussion regarding the proxy process (which will include a Recommendation of the Investor as Owner subcommittee).

Dated: August 12, 2019.
Vanessa A. Countryman,
Secretary.

[FR Doc. 2019-17559 Filed 8-15-19; 8:45 am]

BILLING CODE 8011-01-P